DEPARTMENT OF HEALTH AND HUMAN SERVICES

Administration for Children and Families

Proposed Information Collection Activity; Comment Request

Title: Form OCSE-396A: Financial Report; Form OCSE-34A: Quarterly Report of Collections.

OMB No.: 0970-0181.

Description: Each State agency administering the Child Support Enforcement Program under Title IV-D of the Social Security Act is required to provide information to the Office of Child Support Enforcement concerning its administrative expenditures and its receipt and disposition of child support payments from non-custodial parents. These quarterly reporting forms enable each State to provide that information, which is used to compute both the quarterly grants awarded to each State and the annual incentive payments earned by each State. This information is also included in a published annual statistical and financial report, which is available to the general public.

The Administration for Children and Families received no comments concerning these reporting forms in response to an earlier Federal Register Notice (71 FR 19190). In addition, on February 8, 2006, Public Law 109-171, the “Deficit Reduction Act of 2005” was enacted, which contains several amendments to the Social Security Act that will directly affect the financial reporting for this program. Most of these amendment changes will be effective October 2007 and October 2008.

For these reasons, we are requesting that the existing forms be reapproved, without changes, through September 2008. During that time, we will continue to review the statutory changes and develop revisions to these forms that will comply with those changes.

Respondents: State agencies administering the Child Support Enforcement Program.

Annual Burden Estimates
Instrument | Number of respondents | Number of responses per respondent | Average burden hours per response | Total burden hours
OCSE-396A | 54 | 4 | 8 | 1,728
OCSE-34A | 54 | 4 | 8 | 1,728

Estimated Total Annual Burden Hours: 3,456.

Additional Information: Copies of the proposed collection may be obtained by writing to the Administration for Children and Families, Office of Administration, Office of Information Services, 370 L'Enfant Promenade, SW., Washington, DC 20447, Attn: ACF Reports Clearance Officer. All requests should be identified by the title of the information collection. E-mail address: infocollection@acf.hhs.gov.

OMB Comment: OMB is required to make a decision concerning the collection of information between 30 and 60 days after publication of this document in the Federal Register. Therefore, a comment is best assured of having its full effect if OMB receives it within 30 days of publication. Written comments and recommendations for the proposed information collection should be sent directly to the following: Office of Management and Budget, Paperwork Reduction Project, 725 17th Street, NW., Washington, DC 20503, Attn: Desk Officer for ACF.

Dated: June 15, 2006.
Robert Sargis,
Reports Clearance Officer.

[FR Doc. 06-5604 Filed 6-21-06; 8:45 am]

BILLING CODE 4184-01-M